DEPARTMENT OF THE INTERIOR

Bureau of Land Management

[LLCOS05000.L16100000.DQ0000.LXSS053C0000.20X]

Notice of Availability of the Record of Decision for the Uncompahgre Field Office Approved Resource Management Plan, Colorado

AGENCY: Bureau of Land Management, Interior.

ACTION: Notice of availability.

SUMMARY: The Bureau of Land Management (BLM) announces the availability of the Record of Decision (ROD) for the Approved Resource Management Plan (RMP) for the Uncompahgre Field Office located in southwestern Colorado, in Montrose, Delta, Gunnison, Ouray, San Miguel and Mesa counties. The Colorado State Director signed the ROD on April 2, 2020. The ROD makes the Approved RMP effective immediately.

ADDRESSES: Copies of the ROD/Approved RMP are available upon request from the Uncompahgre Field Office, Bureau of Land Management, 2465 South Townsend Avenue, Montrose, CO 81401 or via the internet at https://go.usa.gov/xnpgD. Copies of the ROD/Approved RMP are available for public inspection by appointment at the Uncompahgre Field Office, Montrose, CO, and the BLM Colorado State Office, 2850 Youngfield St, Lakewood, CO 80215.

FOR FURTHER INFORMATION CONTACT: Angela LoSasso, Planning and Environmental Coordinator, telephone 970-240-5300; email uformp@blm.gov. Persons who use a telecommunications device for the deaf (TDD) may call the Federal Relay Service (FRS) at 1-800-877-8339 to contact Ms. LoSasso during normal business hours. The FRS is available 24 hours a day, 7 days a week, to leave a message or question. You will receive a reply during normal business hours.

SUPPLEMENTARY INFORMATION: The Uncompahgre Approved RMP replaces the 1985 San Juan/San Miguel RMP, as amended; and the 1989 Uncompahgre Basin RMP, as amended. The BLM developed the Uncompahgre Field Office RMP in collaboration with 18 cooperating agencies. The BLM began engaging with the public and its cooperating agencies on the RMP revision in 2010 and made the Draft RMP/Draft EIS available for public review and comment in 2016; the BLM made the Proposed RMP/Final EIS available to the public on June 28, 2019. The BLM received 13 protest letters from parties with standing during the ensuing protest period, and the BLM Director resolved those protests. The Colorado Governor submitted a letter identifying certain concerns related to the consistency of the Proposed RMP with State plans. After a thorough review, the BLM determined that the Proposed RMP is consistent with existing State plans; however, as a result of the Governor's comments, the BLM adopted a new controlled surface use stipulation for fluid mineral leasing. Its purpose is to ensure the function and suitability of big game winter range, migration and production areas. The BLM also modified a stipulation to enhance the Gunnison Sage-Grouse habitat protection. The Approved RMP describes landscape-level management actions and allowable uses for resources, resource uses and special designations within the Uncompahgre Planning Area. The Planning Area includes approximately 3.1 million acres of public land managed by the BLM Uncompahgre Field Office, U.S. Forest Service (portions of the Grand Mesa, Uncompahgre and Gunnison National Forest), National Park Service (Black Canyon of the Gunnison National Park and portions of Curecanti National Recreation Area), U.S. Bureau of Reclamation, State of Colorado (including Ridgway, Crawford, and Paonia State Parks), and local and private lands. The ROD/Approved RMP makes decisions for the approximately 675,800 acres of BLM surface lands and approximately 971,220 acres of Federal mineral estate, including split estate, within the Planning Area. Two BLM National Conservation Areas are managed under separate RMPs. The alternative selected as the Approved RMP is a slightly modified version of Alternative E, as described in the Proposed RMP. It provides for a balanced combination of goals, objectives, allowable uses and management actions. The Approved RMP identifies comprehensive long-range decisions for the management and use of resources on BLM-administered public lands, focusing on the principles of multiple use and sustained yield set forth in the Federal Land Policy and Management Act of 1976.

Authority: 40 CFR 1506.6.

Jamie E. Connell,
Colorado State Director.

[FR Doc. 2020-07316 Filed 4-9-20; 8:45 am]

BILLING CODE 4310-JB-P